ENVIRONMENTAL PROTECTION AGENCY

[EPA-HQ-OW-2004-0013; FRL 9509-2]

Agency Information Collection Activities; Submission to OMB for Review and Approval; Comment Request; EPA Strategic Plan Information on Source Water Protection (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before January 26, 2012.

ADDRESSES: Submit your comments, referencing Docket ID No. EPA-HQ-OW-2004-0013, to (1) EPA online using http://www.regulations.gov (our preferred method), by email to OW-Docket@epa.gov, or by mail to: EPA Docket Center, Environmental Protection Agency, Water Docket, Environmental Protection Agency, EPA Docket Center (EPA/DC), Mailcode 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Beth Hall, Drinking Water Protection Division—Prevention Branch, Office of Ground Water and Drinking Water (MC 4606M), Environmental Protection Agency, 1200 Pennsylvania Ave. NW., Washington, DC 20460; telephone number: (202) 564-3883; fax number: (202) 564-3756; email address: hall.beth@epa.gov.

SUPPLEMENTARY INFORMATION: EPA has submitted the following ICR to OMB for review and approval according to the procedures prescribed in 5 CFR 1320.12. On August 16, 2011 (76 FR 50726), EPA sought comments on this ICR pursuant to 5 CFR 1320.8(d). EPA received two (2) comments during the comment period, which are addressed in the ICR. Any additional comments on this ICR should be submitted to EPA and OMB within 30 days of this notice.

EPA has established a public docket for this ICR under Docket ID No. EPA-HQ-OW-2004-0013, which is available for online viewing at http://www.regulations.gov, or in person viewing at the Water Docket Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Water Docket is (202) 566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA Strategic Plan Information on Source Water Protection (Renewal).

ICR numbers: EPA ICR No. 1816.05, OMB Control No. 2040-0197.

ICR status: This ICR is currently scheduled to expire on December 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA is collecting, on a voluntary basis, data from the States on their progress toward substantial implementation of prevention strategies for all community water systems (CWSs). The information to be collected will help states and EPA understand the progress toward the Agency's goal of increasing the number of CWSs (and the populations they serve) with minimized risk to public health through development and implementation of source water protection strategies for source water areas. The Safe Drinking Water Act, while authorizing the generation of this data, does not require the implementation of source water protection programs by States. Section 1452 of the Safe Drinking Water Act allows the use of Drinking Water State Revolving Fund monies for support efforts in the information collection.

Burden Statement: The annual public reporting and recordkeeping burden for this collection of information is estimated to average 27.6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State environmental and health agencies.

Estimated Number of Respondents: 51.

Frequency of Response: Annual.

Estimated Total Annual Hour Burden: 1,408.

Estimated Total Annual Cost: $58,325; all of this cost is associated with labor; there are no capital investment or maintenance and operational costs associated with this ICR.

Changes in the Estimates: There is a decrease of 308 hours in the total estimated annual respondent burden compared with that identified in the ICR currently approved by OMB. This decrease results from reduced labor burden associated with automated reporting of progress toward developing and implementing prevention strategies for all community water systems via the Safe Drinking Water Information System (SDWIS). EPA estimates that at least 11 states will incur reduced burden by using the capabilities of SDWIS to report to EPA on the status of contamination prevention efforts in their states.

Dated: December 16, 2011.
John Moses,
Director, Collection Strategies Division.

[FR Doc. 2011-33125 Filed 12-23-11; 8:45 am]

BILLING CODE 6560-50-P